DEPARTMENT OF AGRICULTURE

Submission for OMB Review; Comment Request

January 21, 2010.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Foreign Agricultural Service

Title: Food for Peace, Title I Financing and Record Keeping.

OMB Control Number: 0551-0005.

Summary of Collection: Title I of the Food for Peace Act (7 U.S.C. 1691) provides for U.S. government financing of sales of U.S. agricultural commodities to recipients (foreign countries or private entities). The Foreign Agricultural Service (FAS) is responsible for administering Food for Peace, Title 1 agreements. In accordance with the law, an agreement providing for long-term credit financing is first negotiated with the recipient through diplomatic channels. After an agreement has been signed, the recipient applies to FAS for authorization to purchase each commodity provided in the agreement. A purchase authorization is issued which provides for financing of commodity sales by the Commodity Credit Corporation (CCC), the USDA agency authorized by law to provide financing for Title 1. At least 75 percent of the gross tonnage of commodities purchased under Title I must be shipped on privately owned U.S. flag commercial vessels to the extent such vessels are available at fair and reasonable rates. If ocean transportation is required to a country where there is no U.S. flag vessel coverage, a foreign vessel will be used at its prevailing rate. The recipient must send the pertinent terms of all proposed ocean freight contracts, regardless of whether any portion of the ocean freight is financed by CCC, to FAS for review and approval before the vessel is contracted.

Need and Use of the Information: FAS will collect information to insure that (1) suppliers keep accurate records on Title 1 transactions; (2) suppliers permit access to authorized USDA representatives (such as auditors and investigators); and (3) suppliers retain records for three years after final payment. FAS will review the information to ensure that there are no potential conflicts of interest. FAS also evaluates the sales price to ensure that it is within the prevailing range of export market prices. Without the information, FAS could not ensure program compliance.

Description of Respondents: Business or other for-profit.

Number of Respondents: 9.

Frequency of Responses: Recordkeeping; Reporting: On occasion.

Total Burden Hours: 11.

Foreign Agricultural Service

Title: CCC's Export Enhancement Program (EEP) and CCC's Dairy Export Incentive Program (DEIP).

OMB Control Number: 0551-0028.

Summary of Collection: The major objective of the Dairy Export Incentive Program (DEIP) is to expand U.S. dairy product exports by paying cash to exporters as bonuses, allowing them to sell U.S. dairy products in targeted countries at competitive prices. Currently 102 countries and 3 country regions are targeted export destinations and 650 exporters are eligible to participate under the DEIP. Under 7 CFR part 1494, exporters are required to submit the following: (1) Information required for program participation, (2) performance security, (3) export sales information in connection with applying for a CCC bonus, and (4) evidence of export and related information. In addition, each exporter must maintain accurate records showing sales and deliveries of the eligible commodity exported in connection with an agreement made under the DEIP, as outlined in section 1494.1001.

Need and Use of the Information: The Foreign Agricultural Service (FAS) collects information from U.S. exporters in order to determine the exporters' eligibility for the Export Enhancement Program (EEP) and the Dairy Export Incentive Program (DEIP). Program applicants can fax a letter in or applicants may register over the Internet. Information collected from U.S. Exporters is used by CCC to manage, plan for and evaluate the use of, and account for Government resources. Without the application and related information, FAS would be unable to properly qualify U.S. Exporters for EEP and DEIP.

Description of Respondents: Business or other for-profit.

Number of Respondents: 9.

Frequency of Responses: Recordkeeping; Reporting: On occasion.

Total Burden Hours: 47.

Ruth Brown,
Departmental Information Collection Clearance Officer.

[FR Doc. 2010-1558 Filed 1-26-10; 8:45 am]

BILLING CODE 3410-10-P